DEPARTMENT OF HOMELAND SECURITY

Coast Guard

33 CFR Part 165

[Docket Number USCG-2024-0770]

RIN 1625-AA00

Safety Zone; West River Entrance, Shady Side, MD

AGENCY: Coast Guard, DHS.

ACTION: Temporary final rule.

SUMMARY: The Coast Guard is establishing a temporary safety zone for waters near the West River Entrance near Shady Side, Maryland within 200 yards of the sunken recreational vessel LOVEBUG and salvage operations. The safety zone is needed to protect the public and vessels from potential hazards created by an obstruction to the West River and to ensure a safe working environment for the first responders and dive teams from passing traffic. This rule will prohibit persons or vessels from entering this zone unless specifically authorized by the Captain of the Port (COTP) Sector Maryland-National Capital Region (NCR) or a designated representative.

DATES: For purposes of enforcement, actual notice will be used from August 20, 2024, through August 26, 2024. This rule is effective and enforceable without actual notice from August 26, 2024 to August 30, 2024.

ADDRESSES: To view documents mentioned in this preamble as being available in the docket, go to https://www.regulations.gov, type USCG-2024-0770 in the search box and click “Search.” Next, in the Document Type column, select “Supporting & Related Material.”

FOR FURTHER INFORMATION CONTACT: If you have questions on this rule, call or email LCDR Kate Newkirk, Sector Maryland-NCR, Waterways Management Branch, U.S. Coast Guard; 410-365-8141, MDNCRWaterways@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background Information and Regulatory History

The yacht “Lovebug” ran aground a half-mile offshore of Maryland, between Beverly Beach and Curtis Point, on August 16, 2024. Salvage is currently underway. The Coast Guard is issuing this temporary rule under authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule because salvage operations are occurring now, and immediate action is necessary to respond to the potential safety hazards associated with these emergency salvage operations. It is impracticable to publish an NPRM because we must establish this safety zone as soon as possible.

Also, under 5 U.S.C. 553(d)(3), the Coast Guard finds that good cause exists for making this rule effective less than 30 days after publication in the Federal Register. Delaying the effective date of this rule would be impracticable and contrary to the public interest because immediate action is necessary to ensure the safety of vessels and persons on these navigable waters during the emergency vessel salvage operation.

III. Legal Authority and Need for Rule

The Coast Guard is issuing this rule under the authority in 46 U.S.C. 70034. The COTP Sector Maryland-NCR has determined that potential hazards associated with this vessel salvage operation starting on August 20, 2024, will be a safety concern for anyone within a 200-yard radius of the vessel salvage operation in the West River Entrance. This rule is needed to protect personnel, vessels, and the marine environment in the navigable waters within the safety zone while the vessel salvage operations are being conducted.

IV. Discussion of the Rule

This rule establishes a safety zone from August 20, 2024, through August 30, 2024. The safety zone will cover all navigable waters within 200 yards of the vessel salvage operation near Shady Side, Maryland, located at −38° 51.660 N, 076° 29.600 W. This rule is necessary to ensure the safety of vessels and persons during the vessel salvage operation. This rule will prohibit persons or vessels from entering this zone unless specifically authorized by the COTP or a designated representative.

The COTP or a designated representative may forbid and control the movement of all vessels in the zone. When hailed or signaled by an official patrol vessel, a vessel shall come to an immediate stop and comply with the directions given. Failure to do so may result in expulsion from the zone, citation for failure to comply, or both.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on size, location, and duration of the proposed rulemaking. This safety zone would take place on a relatively small area of the West River Entrance and waters associated with Shady Side, MD, lasting from August 20, 2024, through August 30, 2024. Additionally, the Coast Guard would issue Broadcast Notices to Mariners via VHF-FM marine channel 16 about the safety zone so that waterway users may plan accordingly for transits during this restriction, and the rule will allow vessels to seek permission from the COTP Maryland-NCR or a designated representative to enter the zone.

B. Impact on Small Entities

The Regulatory Flexibility Act of 1980, 5 U.S.C. 601-612, as amended, does not apply to rules not subject to notice and comment. As the Coast Guard has, for good cause, waived notice and comment requirement that would otherwise apply to this rulemaking, the Regulatory Flexibility Act's provisions do not apply here.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a 200-yard safety zone around salvage operations near the West River Entrance for 11 days. It is categorically excluded from further review under paragraph L60(d) of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places, or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1; 6.04-1, 6.04-6, and 160.5; Department of Homeland Security Delegation No. 0170.1, Revision No. 01.3.

2. Add § 165.T05-0170 to read as follows:

§ 165.T05-0170 Safety Zone; West River Entrance, Shady Side, MD.

(a) Location. The following area is a safety zone: all navigable waters within 200 yards of the location of the vessel LOVEBUG and associated salvage operation located at position −38° 51.660N, 076° 29.600W.

(b) Enforcement period. This section is effective from August 20, 2024 through August 30, 2024.

(c) Regulations. (1) In accordance with the general regulations in § 165.23 of this part, entry into, transiting through, or exiting from the safety zone described in paragraph (a) of this section is prohibited unless authorized by the COTP Maryland-NCR or a designated representative.

(2) Vessels desiring to transit the regulated area may do so only with prior approval of the COTP Maryland-NCR or a designated representative and when so directed will be operated at a minimum safe navigation speed in a manner that will not endanger salvage operations in the zone or any other vessels.

(3) The COTP Maryland-NCR or a designated representative may forbid and control the movement of all vessels in the regulated area. When hailed or signaled by an official patrol vessel, a vessel shall come to an immediate stop and comply with the directions given. Failure to do so may result in expulsion from the area, citation for failure to comply, or both.

(4) Entry into this zone is prohibited unless authorized by the COTP Maryland-NCR or a designated representative.

(5) Persons or vessels seeking to enter or transit through the zone must request permission from the COTP Maryland-NCR or a designated representative. They may be contacted on VHF-FM channel 16 or by telephone at 410-576-2693.

(6) If permission is granted, all persons and vessels must comply with the instructions of the COTP Maryland-NCR or designated representative.

(d) Informational broadcasts. The COTP Maryland-NCR or a designated representative will inform the public through Broadcast Notices to Mariners of the enforcement period for the temporary safety zone as well as any changes in the planned schedule.

Dated: August 20, 2024.
Patrick C. Burkett,
Captain, U.S. Coast Guard, Captain of the Port, Sector Maryland-National Capital Region.

[FR Doc. 2024-19045 Filed 8-23-24; 8:45 am]

BILLING CODE 9110-04-P